ELECTION ASSISTANCE COMMISSION

Information Collection Activity; Focus Groups—Study of the Feasibility and Advisability of Establishing a Program of Free Return or Reduced Postage for Absentee Ballots

AGENCY: U.S. Election Assistance Commission (EAC).

ACTION: Notice and request for comments.

SUMMARY: The U.S. Election Assistance Commission has submitted the following information collection request to the Office of Management and Budget (OMB) for review and clearance in accordance with the Paperwork Reduction Act of 1995. The information collection was previously published in the Federal Register on November 14, 2006, at 71 FR 66321. The notice allowed for a 60-day public comment period. Two comments were received on this information collection during that time period, and as a result the number of focus groups was increased from three to nine. In addition, each selected group will now have one focus group from an urban, rural, and suburban location to ensure the diversity of responses and participants. The purpose of this notice is to allow an additional 30 days for public comments. Comments are encouraged and will be accepted until June 18, 2007. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before June 18, 2007.

ADDRESSES: Written comments and recommendations on the proposed information collection should be sent to:

OMB Review: Alexander T. Hunt, Office of Management and Budget, Room 10235, New Executive Office Building, Washington, DC 20503, (202) 395-7316.

FOR FURTHER INFORMATION CONTACT: To request more information on this proposed information collection or to obtain a copy of the proposal and associated collection instruments, please, write to the above address or call Ms. Karen Lynn-Dyson at (202) 566-3100.

SUPPLEMENTARY INFORMATION: Title: Study of the Feasibility and Advisability of Establishing a Program of Free Return or Reduced Postage for Absentee Ballots—Focus Groups.

OMB Number: Pending.

Type of Review: Regular submission.

Needs and Uses: Section 246 of the Help America Vote Act requires the Election Assistance Commission (EAC), in consultation with the United States Postal Service, to conduct a study on the feasibility and advisability of establishing a program under which the U.S. Postal Service shall waive or otherwise reduce the amount of postage applicable with respect to absentee ballots returned by voters in general elections for Federal Office. This study does not address the cost to the U.S. Postal Service for free postage for sending absentee ballots but may consider costs to election officials that are related to implementing such a program including the costs of sending absentee ballots to voters. It also does not include consideration of the 39 U.S.C. 3406 provisions for the mailing of balloting materials for military and overseas absentee voters.

As part of the study the Commission is directed to conduct a nationwide survey of potential beneficiaries, including the elderly and disabled, and to take into account the results of this survey in determining the feasibility and advisability of establishing such a program. This survey will be supplemented by focus groups among potential beneficiaries—elderly, disabled, low-income—to obtain more specific information on the challenges these populations face when participating in election and to assess the potential benefit these populations might receive from a program of free return or reduced postage for absentee ballots. At the conclusion of the study effort, EAC is required to submit a report to Congress with recommendations for such legislative and administrative action as EAC determines appropriate. The report shall contain an analysis of the feasibility of implementing such a program and an estimate of the costs. It is required to specifically contain recommendations regarding the elderly and disabled populations, including ways a free absentee ballot return postage program would target these populations and identify methods to increase the number or such individuals who vote in elections for Federal office.

Affected Public: Citizens.

Number of Respondents: 108.

Responses per Respondent: 1.

Estimated Burden Per Response: 1.25 hours; focus groups will last no longer than 1.25 hours.

Estimated Total Annual Burden Hours: 135 hours.

Information will be collected through a series of nine focus groups comprised of potential beneficiaries of a free and/or discounted absentee ballot postage program. Three (3) focus groups will be dedicated to issues confronting the elderly population, three (3) focus groups will be dedicated to issues confronting disabled people and three (3) focus groups will be dedicated to issues confronting the low-income citizens. An official from the United States Postal Service will observe at least one of the planned focus groups. The topics that will be explored included:

1. The challenges that the particular population faces when participating in elections.

a. Information on respondents' previous experiences with voting in Federal elections. Information on any difficulties encountered in the process of voting and how the issues were resolved.

2. The concerns members of the particular population have about voting (e.g. voter intimidation, voter confidentiality, security, use of ballots).

a. Information on particular incidents that has prevented respondent from being able to vote.

3. The possible remedies to those challenges that would likely increase the rates of voter participation in the population (e.g. relaxed absentee voting laws, better accessibility to polling places, voter education).

a. Information on respondents' interest in absentee ballot voting.

4. The likelihood that a free or discounted absentee ballot postage program would assist the particular population.

a. Information on respondents' interest in a program of free or discounted postage for absentee ballots.

5. How the program could possibility by implemented to target the particular population.

a. Information on creating and implementing the program to ensure that it benefits the particular population.

6. The factors that would make reaching the particular population difficult.

a. Information on advertising such a program to the particular population so that they can take advantage of the change.

Thomas R. Wilkey,
Executive Director, U.S. Election Assistant Commission.

[FR Doc. 07-2463 Filed 5-17-07; 8:45 am]

BILLING CODE 6820-KF-M